DEPARTMENT OF VETERANS AFFAIRS

Voluntary Service National Advisory Committee; Notice of Meeting

Late Notice: Due to exceptional circumstances, namely, because of the Federal Government shut down in October 2013, the Department of Veterans Affairs (VA) was unable to publish in a timely manner the original notice for this meeting. In the interest of promoting openness and transparency—the goals of the Federal Advisory Committee Act (FACA)—we are publishing a late notice in the Federal Register to inform the public that the meeting was held on the dates and times listed in the original notice below. The meeting records can be viewed by the public at http://www.volunteer.va.gov/NAC.asp and the public may submit written comments as described below.

VA gives notice under FACA, 5 U.S.C. App. 2, that the Executive Committee of the VA Voluntary Service (VAVS) National Advisory Committee (NAC) will meet October 24-25, 2013, at the Embassy Suites Raleigh-Durham Research Triangle Park, 201 Harrison Oaks Boulevard, Cary, North Carolina. The sessions will begin at 8:30 a.m. each day and end at 4:30 p.m. on October 24, and at 12 noon on October 25, 2013. The meeting is open to the public. Please note that less than 15 calendar days' notice of this meeting is being provided due to exceptional circumstances, namely, that because of the Government shut down, the Federal Register was unable to timely publish the original notice for this meeting. See 41 CFR 102-3.150(b).

The Committee, comprised of fifty-four National voluntary organizations, advises the Secretary, through the Under Secretary for Health, on the coordination and promotion of volunteer activities within VA health care facilities. The Executive Committee consists of twenty representatives from the NAC member organizations.

On October 24, agenda topics will include NAC goals and objectives; review of the March 2013 NAC annual meeting minutes; VAVS update on the Voluntary Service program's activities; Parke Board update; evaluations of the 2013 NAC annual meeting; review of membership criteria and process; and plans for 2014 NAC annual meeting (to include workshops and plenary sessions).

On October 25, agenda topics will include subcommittee reports; review of standard operating procedures; review of Fiscal Year 2013 organization data; 2015 NAC annual meeting plans; and any new business.

No time will be allocated at this meeting for receiving oral presentations from the public. However, the public may submit written statements for the Committee's review to Mrs. Sabrina C. Clark, Designated Federal Officer, Voluntary Service Office (10B2A), Department of Veterans Affairs, 810 Vermont Avenue NW., Washington, DC 20420, or email at Sabrina.Clark@VA.gov. Any member of the public wishing to attend the meeting or seeking additional information should contact Mrs. Clark at (202) 461-7300.

By Direction of the Secretary.
William F. Russo,
Deputy Director, Office of Regulation Policy and Management, Office of the General Counsel.

[FR Doc. 2014-01054 Filed 1-30-14; 8:45 am]

BILLING CODE 8320-01-P